DEPARTMENT OF ENERGY

Federal Energy Regulatory Commission

[Project No. 14472-000]

Control Technology, Inc.; Notice of Preliminary Permit Application Accepted for Filing and Soliciting Comments, Motions To Intervene, and Competing Applications

On December 18, 2012, Control Technology, Inc. filed an application for a preliminary permit, pursuant to section 4(f) of the Federal Power Act, proposing to study the feasibility of the River Mountain Pumped Storage Project, at the U.S. Army Corps of Engineers (Corps) Lake Dardanelle on the Arkansas River in Logan County, Arkansas. The sole purpose of a preliminary permit, if issued, is to grant the permit holder priority to file a license application during the permit term. A preliminary permit does not authorize the permit holder to perform any land disturbing activities or otherwise enter upon lands or waters owned by others without the owners' express permission.

The proposed project would consist of: (1) A new 177-acre upper reservoir, lined with an impermeable membrane, having 11,500 acre-feet gross storage capacity; (2) the existing Corps Lake Dardanelle as its lower reservoir, (3) a reinforced concrete penstock with intake/outlet structure in the upper reservoir; (4) a 30-foot diameter, concrete-lined penstock approximately 680 feet long connecting the upper reservoir's intake and outlet structure to an underground, horizontal power tunnel; (5) a 30-foot-diameter, concrete-lined, power tunnel that extends 1,250 feet from the vertical shaft to the penstocks; (6) three 16-foot diameter penstocks approximately 450 feet long, 250 feet of which are steel-lined; (7) an underground powerhouse, containing three reversible pump-turbine generator units, each generating with up to 13,200 cfs and pumping with up to 10,560 cfs with a total generating capacity of 600 megawatts; (8) a 4,800 feet-long tailrace tunnel; (9) a 2,700 foot-long access tunnel; (10) a 500-kV transmission line from the powerhouse to an existing transmission line owned by Arkansas Power and Light. The project would generate approximately 6,000 megawatt-hours per day and operate as directed by the Corps.

Applicant Contact: David Kates, Control Technology, Inc., 2416 Cades Way, Vista, CA 92083; phone 760-599-0086; fax 760-599-1815.

FERC Contact: Chris Casey, christiane.casey@ferc.gov, (202) 502-8577.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14472) in the docket number field to access the document. For assistance, contact FERC Online Support.

Dated: July 10, 2013.
Kimberly D. Bose,
Secretary.

[FR Doc. 2013-16997 Filed 7-15-13; 8:45 am]

BILLING CODE 6717-01-P